DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On April 19, 2023, OFAC determined that the property and interests in property subject to U.S. jurisdiction of the following persons are blocked under the relevant sanctions authority listed below.

BILLING CODE 4810-AL-P

On April 19, 2023, OFAC published revised information for the following person on OFAC's SDN List.

Entity:

1. PARDAZAN SYSTEM NAMAD ARMAN (a.k.a. FARAZ TEGARAT ERTEBAT COMPANY; a.k.a. PARDAZAN SYSTEM HOUSES ARMAN; a.k.a. PASNA; a.k.a. PASNA INDUSTRY CO.; a.k.a. PASNA INTERNATION TRADING CO.; a.k.a. POUYAN ELECTRONIC CO.; a.k.a. SINO TRADER COMPANY), Number 8, Unit 14, Tavana Building, Khan Babaei Alley, Nik Zare Street, Akbari Street, Ashrafti Esfahani Avenue, Tehran, Iran; Ghodarzi Alley, Building No. 11, Alborz, Third Floor, No. 9, Monacoheri St., Saadi St., Tehran, Iran; Sa'di St., Manoucohehri St., Goodarzi Alley, Building No. 11, Alborz, Third Floor, No. 9, Tehran, Iran; website http://www.pasnaindustry.com; Additional Sanctions Information—Subject to Secondary Sanctions [NPWMD] [IFSR].

Designated pursuant to section 1(a)(iii) of E.O. 13382 on January 12, 2018, for having provided, or attempted to provide, financial, material, technological or other support for, or goods or services in support of, ELECTRONIC COMPONENTS INDUSTRIES, a person whose property and interests in property are blocked pursuant to E.O. 13382.

Dated: April 19, 2023.
Andrea Gacki,
Director, Office of Foreign Assets Control, U.S. Department of the Treasury.

[FR Doc. 2023-08587 Filed 4-21-23; 8:45 am]

BILLING CODE 4810-AL-C